DEPARTMENT OF THE INTERIOR

Office of Surface Mining Reclamation and Enforcement

Notice of Proposed Information Collection for 1029-0049

AGENCY: Office of Surface Mining Reclamation and Enforcement, Interior.

ACTION: Notice and request for comments.

SUMMARY: In compliance with the Paperwork Reduction Act of 1995, the Office of Surface Mining Reclamation and Enforcement (OSM) is announcing that the information collection request for 30 CFR 822—Special Permanent Program Performance Standards—Operations in Alluvial Valley Floors, has been forwarded to the Office of Management and Budget (OMB) for review and reauthorization. The information collection package was previously approved and assigned control number 1029-0049. This notice describes the nature of the information collection activity and the expected burdens.

DATES: OMB has up to 60 days to approve or disapprove the information collection, but may respond after 30 days. Therefore, public comments should be submitted to OMB by October 25, 2010, in order to be assured of consideration.

ADDRESSES: Submit comments to the Office of Information and Regulatory Affairs, Office of Management and Budget, Attention: Department of the Interior Desk Officer, by telefax at (202) 395-5806, or via e-mail to OIRA_Docket@omb.eop.gov. Also, please send a copy of your comments to Adrienne L. Alsop, Office of Surface Mining Reclamation and Enforcement, 1951 Constitution Ave, NW., Room 202—SIB, Washington, DC 20240, or electronically to aalsop@smre.gov.

FOR FURTHER INFORMATION CONTACT: To receive a copy of the information collection request, contact Adrienne Alsop at (202) 208-2818 or electronically to aalsop@osmre.gov. You may also review the information collection requests online at http://www.reginfo.gov. Follow the instructions to review Department of the Interior collections under review by OMB.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8 (d)]. OSM has submitted a request to OMB to renew its approval for the collection of information for 30 CFR 822—Special Permanent Program Performance Standards—Operations in Alluvial Valley Floors. OSM is requesting a 3 year term of approval for this information collection.

An agency may not conduct or sponsor, and a person is not required to respond to, a collection of information unless it displays a currently valid OMB control number. The OMB control number for part 822 is 1029-0049 and is referenced in § 822.10.

As required under 5 CFR 1320.8(d), a Federal Register notice soliciting comments on this collection of information was published on June 29, 2010 (75 FR 37458). No comments were received. This notice provides the public with an additional 30 days in which to comment on the following information collection:

Title: 30 CFR 822—Special Permanent Program Performance Standards—Operations in Alluvial Valley Floors.

OMB Control Number: 1029-0049.

Summary: Sections 510(b)(5) and 515(b)(10)(F) of the Surface Mining Control and Reclamation Act of 1977 (SMCRA) protect alluvial valley floors from the adverse effects of surface coal mining operations west of the 100th meridian. Part 822 requires the permittee to install, maintain, and operate a monitoring system in order to provide specific protection for alluvial valley floors. This information is necessary to determine whether the unique hydrologic conditions of alluvial valley floors are protected according to the Act.

Bureau Form Number: None.

Frequency of Collection: Annually.

Description of Respondents: 25 coal mining operators who operate on alluvial valley floors and the State regulatory authorities.

Total Annual Responses: 50.

Total Annual Burden Hours: 2,750.

Send comments on the need for the collection of information for the performance of the functions of the agency; the accuracy of the agency's burden estimates; ways to enhance the quality, utility and clarity of the information collection; and ways to minimize the information collection burden on respondents, such as use of automated means of collection of the information, to the addresses listed above. Please refer to OMB control number 1029-0049 in all correspondence.

Before including your address, phone number, e-mail address, or other personal identifying information in your comment, you should be aware that your entire comment—including your personal identifying information—may be made publicly available at any time. While you can ask us in your comment to withhold your personal identifying information from public review, we cannot guarantee that we will be able to do so.

Dated: September 16, 2010.
John R. Craynon,
Chief.

[FR Doc. 2010-23646 Filed 9-22-10; 8:45 am]

BILLING CODE 4310-05-M